DEPARTMENT OF THE INTERIOR

National Park Service

[NPS-WASO-NAGPRA-NPS0037442; PPWOCRADN0-PCU00RP14.R50000]

Notice of Inventory Completion: Office of the State Archaeologist Bioarchaeology Program, University of Iowa, Iowa City, IA

AGENCY: National Park Service, Interior.

ACTION: Notice.

SUMMARY: In accordance with the Native American Graves Protection and Repatriation Act (NAGPRA), the Office of the State Archaeologist Bioarchaeology Program (OSA-BP) has completed an inventory of human remains and associated funerary objects and has determined that there is a cultural affiliation between the human remains and associated funerary objects and Indian Tribes or Native Hawaiian organizations in this notice. The human remains and associated funerary objects were removed from Adams, Allamakee, Clay, Lyon, Polk, and Warren Counties, IA.

DATES: Repatriation of the human remains and associated funerary objects in this notice may occur on or after March 27, 2024.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: This notice is published as part of the National Park Service's administrative responsibilities under NAGPRA. The determinations in this notice are the sole responsibility of the OSA-BP. The National Park Service is not responsible for the determinations in this notice. Additional information on the determinations in this notice, including the results of consultation, can be found in the inventory or related records held by the OSA-BP.

Description

In 1965 and 1966, human remains representing, at minimum, 43 individuals were removed from the Howard Goodhue Site (13PK1) in Polk County, IA. The human remains were recovered during excavations conducted by the Iowa State University Archaeology Laboratory (ISUAL) under contract with the National Park Service in the area of the Red Rock Reservoir. In 1991, the ISUAL transferred the human remains to the OSA-BP. Additional human remains were later discovered in the ISUAL collections and were transferred to the OSA-BP in 1996, 1997, and 2005. The transferred human remains were labeled with the following ISUAL catalog numbers: 16a, 1715, 2383, 2925, 3518, 5712, 6318, 6534, 9225, 10209, 13118, 13120, 13154-5, 13344-5, 13701, 14601, 16804, 16342, 16797, 20489, 20737-9, 21659-64, 21723-46, 21753-7, 21758-65, 23060a, 23106-12, 23539-40, 23545-60, 23562-4, 23566-9, 23577-9, 23585, 23638-9, 23641-4, 23893-23914, 23970-2, 23975-6, 24048-59. Among the 43 individuals, 24 adults and 18 juveniles were identified. The adults include four possible males and eight possible females. Young and middle-aged adults are represented, as well as one old adult. Four of the juveniles are infants ranging from newborn to 2.5 years. Two juveniles fall in the two- to four-year-old range, and two in the four- to six-year-old range. Two juveniles fall in the six- to ten-year-old range, and five were aged somewhere between 10 and 16 years. The remaining three juveniles were roughly estimated to be between eight and 21 years old (Burial Project 521, 990, 1141, 1825). The associated funerary objects were transferred to the OSA-BP in 1996 (Catalog #s 23640, 23645a, 23892). The 27 associated funerary objects are 16 small copper beads, eight cylindrical copper beads and fragments, one portion of a reconstructed vessel, and two ceramic sherds.

In 1966, human remains representing, at minimum, one individual were removed from the Clarkson Site (13WA2) in Warren County, IA. The human remains were recovered during excavations conducted by the ISUAL under contract with the National Park Service as part of the interagency river basin salvage program at the Red Rock Reservoir. In 1991, the human remains were transferred from the ISUAL to the OSA-BP. The transferred human remains were labeled with the following ISUAL catalog numbers: 3837-3952, 3954-3967, 3969-3997. A child aged 2.5 to 3.5 years is represented by the human remains (Burial Project 519). No associated funerary objects are present.

In 1968, human remains representing, at minimum, three individuals were removed from site 13WA105 in Warren County, IA. The human remains were recovered during salvage excavations conducted by the ISUAL after the land was acquired by the U.S. Army Corps of Engineers. The ISUAL transferred the human remains to the OSA-BP in 1991. The transferred human remains were labeled with the following ISUAL catalog numbers: 2013, 2275, 3980, 4937a. Two young to middle-aged adults are represented by the human remains, as well as a child approximately three months to one year old (Burial Project 520). No associated funerary objects are present.

In 2008, human remains representing, at minimum, one individual were removed from Adams County, IA. The culturally modified human cranium was discovered on a sand bar (find spot 13AA106) in the East Nodoway River by a private citizen. No Native American habitation or burial sites have been recorded in the vicinity of the findspot, so the original location of the cranium is unknown. The human remains were transferred to the Iowa OSA-BP. A young adult female is represented by the cranial remains, which exhibit pictorial incising including a “birdman” figure and a four-pointed star (Burial Project 2300). The design motifs have been documented on other culturally modified cranial fragments from other archaeologically defined Oneota sites. No associated funerary objects are present.

At an unknown time, human remains representing, at minimum, one individual were removed from the Blood Run Site (13LO2) in Lyon County, IA. The human remains were collected from the site by a private citizen before being transferred to the OSA with faunal remains from the site in April 2022. The human remains were initially thought to be faunal before being properly identified by OSA staff. The human remains are a single fragmented ilium representing a single juvenile individual aged between 8 and 10 years. The fragment exhibits green staining from contact with copper (Burial Project 3685). No associated funerary objects are present.

At an unknown time, human remains representing, at minimum, two individuals were removed from Blood Run Site (13LO2) in Lyon County, IA. The human remains were collected by a private citizen before being transferred to the OSA with other artifacts collected from the site in July of 2023. The human remains are a single fragmented adult right ulna and a right mandible fragment from a juvenile individual aged between 8 and 11 years old (BP3812). No associated funerary objects are present.

In May of 2023, human remains representing, at minimum, one individual were removed from the Fort Des Moines site (13PK61) in Polk County, IA. The human remains were excavated by Wapsi Valley Archaeology Inc. during a Phase III excavation for a new watermain. Tribal monitors were contacted to observe the rest of the Phase III, and the human remains were transferred to the OSA. They represent one adult individual of unknown sex and age (BP3798). No associated funerary objects are present.

At an unknown time, human remains representing, at minimum, one individual were removed from site 13CY2 in Clay County IA. The human remains were collected by a private collector and then donated to the OSA. In July of 2023 the human remains were identified in the donated materials by OSA staff. The human remains are a left second mandibular molar from an adult individual (BP 3817). No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, historical information, linguistics, and oral tradition.

Determinations

Pursuant to NAGPRA and its implementing regulations, and after consultation with the appropriate Indian Tribes and Native Hawaiian organizations, the OSA-BP has determined that:

• The human remains described in this notice represent the physical remains of 53 individuals of Native American ancestry.

• The 27 objects described in this notice are reasonably believed to have been placed with or near individual human remains at the time of death or later as part of the death rite or ceremony.

• There is a relationship of shared group identity that can be reasonably traced between the human remains and associated funerary objects described in this notice and the Ho-Chunk Nation of Wisconsin; Iowa Tribe of Kansas and Nebraska; Iowa Tribe of Oklahoma; Omaha Tribe of Nebraska; Otoe-Missouria Tribe of Indians, Oklahoma; Ponca Tribe of Indians of Oklahoma; Ponca Tribe of Nebraska; Three Affiliated Tribes of the Fort Berthold Reservation, North Dakota; and the Winnebago Tribe of Nebraska.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2024. If competing requests for repatriation are received, the OSA-BP must determine the most appropriate requestor prior to repatriation. Requests for joint repatriation of the human remains and associated funerary objects are considered a single request and not competing requests. The OSA-BP is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 16, 2024.
Melanie O'Brien,
Manager, National NAGPRA Program.

[FR Doc. 2024-03797 Filed 2-23-24; 8:45 am]

BILLING CODE 4312-52-P